DEPARTMENT OF TRANSPORTATION

Federal Railroad Administration

[Docket No. FRA 2012-0006-N-13]

Proposed Agency Information Collection Activities; Comment Request

AGENCY: Federal Railroad Administration (FRA), Department of Transportation.

ACTION: Notice and request for comments.

SUMMARY: In accordance with the Paperwork Reduction Act of 1995 and its implementing regulations, the Federal Railroad Administration (FRA) hereby announces that it is seeking renewal of the following currently approved information collection activities. Before submitting these information collection requirements (ICRs) for clearance by the Office of Management and Budget (OMB), FRA is soliciting public comment on specific aspects of the activities identified below.

DATES: Comments must be received no later than November 23, 2012.

ADDRESSES: Submit written comments on any or all of the following proposed activities by mail to either: Mr. Robert Brogan, Office of Safety, Planning and Evaluation Division, RRS-21, Federal Railroad Administration, 1200 New Jersey Ave. SE., Mail Stop 25, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-___.” Alternatively, comments may be transmitted via facsimile to (202) 493-6216 or (202) 493-6497, or via email to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 25, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR part 1320, require Federal agencies to provide 60 days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: State Safety Participation Regulations and Remedial Actions.

OMB Control Number: 2130-0509.

Abstract: The collection of information is set forth under 49 CFR part 212, and requires qualified state inspectors to provide various reports to FRA for monitoring and enforcement purposes concerning state investigative, inspection, and surveillance activities regarding railroad compliance with Federal railroad safety laws and regulations. Additionally, railroads are required to report to FRA actions taken to remedy certain alleged violations of law.

Form Number(s): FRA F 6180.33/61/67/96/96A/109/110/111/112.

Affected Public: Businesses.

Respondent Universe: States and Railroads.

Frequency of Submission: On occasion.

Reporting Burden
CFR section | Respondent universe | Total annual responses | Average time per response | Total annual burden hours
Application For Participation | 15 States | 15 updates | 2.5 hours | 38
Training Funding Agreement | 30 States | 30 agreements | 1 hour | 30
Inspector Training Reimbursement | 30 States | 300 vouchers | 1 hour | 300
Annual Work Plan | 30 States | 30 reports | 15 hours | 450
Inspection Form (Form FRA F 6180.96) | 30 States | 16,000 forms | 15 minutes | 4,000
Violation Report—Motive, Power, and Equipment Regulations (Form FRA F 6180.109) | 17 States | 550 reports | 4 hours | 2,200
Violation Report—Operating Practices Regulations (Form FRA F 6180.67) | 16 States | 140 reports | 4 hours | 560
Violation Report—Hazardous Materials Regulations (Form FRA F 6180.110) | 15 States | 170 reports | 4 hours | 680
Violation Report—Hours of Service Law (F 6180.33) | 16 States | 35 reports | 4 hours | 140
Violation Report—Accident/Incident Reporting Rules (Form FRA F 6180.61) | 16 States | 30 reports | 4 hours | 120
Violation Report—Track Safety Regulations (Form FRA F 6180.111) | 25 States | 100 reports | 4 hours | 400
Violation Report—Signal and Train Control Regulations (Form FRA F 6180.112) | 14 States | 20 reports | 4 hours | 80
Remedial Actions Reports | 563 Railroads | 3,500 reports | 15 minutes | 875
Violation Report Challenge | 563 Railroads | 700 challenges | 1 hours | 700
Delayed Reports | 573 Railroads | 350 reports | 30 minutes | 175

Total Responses: 21,970.

Estimated Total Annual Burden: 10,748 hours.

Type of Request: Extension of a currently approved collection.

Title: Use of Locomotive Horns at Highway-Rail Grade Crossings.

OMB Control Number: 2130-0560.

Abstract: Under Title 49 Part 222 of the Code of Federal Regulations, FRA seeks to collect information from railroads and public authorities in order to increase safety at highway-rail grade crossings nationwide by requiring that locomotive horns be sounded when trains approach and pass through these crossings or by ensuring that a safety level at least equivalent to that provided by blowing locomotive horns exists for corridors in which horns are silenced. FRA reviews applications by public authorities intending to establish new or, in some cases, continue pre-rule quiet zones to ensure the necessary level of safety is achieved.

Form Number(s): N/A.

Affected Public: Businesses.

Frequency of Submission: On occasion.

Respondent Universe: 728 railroads/340 Public Authorities.

CFR section | Respondent universe | Total annual responses | Average time per response | Total annual burden hours
222.11—Penalties—Falsified Report | 728 Railroads/340 Public Authorities | 1 report/record | 2 hours | 2
222.15—Waiver Petitions | 728 Railroads/340 Public Authorities | 5 petitions | 4 hours | 20
222.17—Application to Become Recognized State Agency | 68 State Agencies | 1 application | 8 hours | 8
222.39—Applications to Establish Quiet Zone | 340 Public Authorities | 10 applications | 80 hours | 800
—Diagnostic Team Rev. | 340 Public Authorities | 2 team reviews | 16 hours | 32
—Updated Crossing Inventory Forms | 340 Public Authorities | 50 updated forms | 1 hour | 50
—Copies of Quiet Zone Application | 340 Public Authorities | 60 copies | 10 minutes | 10
—Comments to FRA on Quiet Zone Application | 715 Railroads/State Agencies | 20 comments | 2.5 hours | 30
222.43—Written Notice of Public Authority Intent to Create New Quiet Zone and Notification to Required Parties | 216 Communities/Public Authorities | 30 notices + 90 notifications | 40 hours + 10 minutes | 1,215
—Updated Crossing Inventory Forms | 216 Communities | 150 updated forms | 1 hour | 150
Comments on proposed Quiet Zone | 715 Railroads/State Agencies | 60 comments | 4 hours | 240
—Notice of Quiet Zone Establishment + Notification to Required Parties | 316 Public Authorities | 30 notices + 180 notifications | 40 hours + 10 minutes | 1,230
—Updated Crossing Inventory Forms | 316 Public Authorities | 150 updated forms | 1 hour | 150
—Certification by CEO of Public Authority Regarding Accuracy of Information | 216 Public Authorities | 30 certifications | 5 minutes | 3
222.47—Periodic Updates: Written Affirmation that Supplementary Safety Measures Implemented w/in Quiet Zone Conform to Rule or Terms of Approval | 200 Public Authorities | 70 written affirmations + 420 copies (to required parties) | 30 minutes + 2 minutes | 70
—Updated Crossing Inventory Forms | 200 Public Authorities | 350 updated forms | 1 hour | 350
222.51—Written Commitment to Lower Risk to Traveling Public in Quiet Zones Exceeding Nationwide Significant Risk Threshold | 9 Public Authorities | 5 written commitments | 5 hours | 25
—Comments Upon FRA Review of Quiet Zone Status | 3 Public Authorities | 4 comments | 30 minutes | 2
222.55—Request for FRA Approval of New Supplementary Safety Measures or Alternative Safety Measures (ASMs) for Quiet Zone | 265 Interested Parties | 1 letter | 30 minutes | 1
—Comments on New SSMs or ASMs | 265 Interested Parties/General Public | 5 comments | 30 minutes | 3
—Request for SSM/ASM Approval—Demo | 265 Interested Parties | 1 letter | 30 minutes | 1
222.57—Petition for FRA Review of Decision Granting or Denying a New SSM or ASM; Petition Copies to Relevant Parties | 265 Public Authorities/Interested Parties | 5 petitions + 5 petition copies | 60 minutes + 2 minutes | 1
—Request for FRA Reconsideration of Disapproval of Quiet Zone + Party Copies | 200 Public Authorities | 1 letter + 6 letter copies | 5 hours + 2 minutes | 5
—Additional Documents to FRA as Follow-up to Petition for Reconsideration | 200 Public Authorities | 1additional document/set of materials | 2 hours | 2
—Letter Requesting FRA Informal Hearing | 200 Public Authorities | 1 letter | 30 minutes | 1
222.59—Written Notice of Use of Wayside Horn at Grade Crossing within Quiet Zone + Party Copies | 200 Public Authorities | 5 notices + 30 notice copies | 2.5 hours + 10 minutes | 18
—Notice of Wayside Horn Outside Q. Zone | 200 Public Authorities | 5 notices + 30 notice copies | 2.5 hours + 10 minutes | 18
Appendix B—Public Authority Record Relating to Monitoring and Sampling Efforts at Grade Crossing in Quiet Zone with Programmed Enforcement | 200 Public Authorities | 1 record | 500 hours | 500
—Public Authority Record Relating to Monitoring and Sampling Efforts at Grade Crossing in Quiet Zone with Photo Enforcement | 200 Public Authorities | 1 record | 9 hours | 9
222.129—Written Reports/Records of Locomotive Horn Testing | 728 Railroads | 650 reports/records | 60 minutes | 650

Total Estimated Responses: 2,466.

Total Estimated Annual Burden: 5,596 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on September 18, 2012.
Rebecca Pennington,
Chief Financial Officer, Federal Railroad Administration.

[FR Doc. 2012-23451 Filed 9-21-12; 8:45 am]

BILLING CODE 4910-06-P